DEPARTMENT OF COMMERCE

International Trade Administration

[A-533-840]

Certain Frozen Warmwater Shrimp From India: Notice of Initiation of Antidumping Duty Changed Circumstances Review

AGENCY: Enforcement and Compliance, International Trade Administration, Department of Commerce.

SUMMARY: The Department of Commerce (Commerce) is initiating a changed circumstances review (CCR) to determine if LNSK Greenhouse Agro Products LLP (LNSK Greenhouse Agro) is the successor-in-interest to Green House Agro Products (Greenhouse Agro) in the context of the antidumping duty (AD) order on certain frozen warmwater shrimp (shrimp) from India.

DATES: Applicable October 7, 2020.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

On February 1, 2005, Commerce published in the Federal Register an AD order on shrimp from India.¹ On August 17, 2020, LNSK Greenhouse Agro requested that, pursuant to section 751(b) of the Tariff Act of 1930, as amended (the Act), 19 CFR 351.216, and 19 CFR 351.221(c)(3), Commerce conduct a CCR to determine that LNSK Greenhouse Agro is the successor-in-interest to Greenhouse Agro, and accordingly to assign it the cash deposit rate of Greenhouse Agro.² In its submission, LNSK Greenhouse Agro stated that Greenhouse Agro undertook a name change to LNSK Greenhouse Agro and changed its corporate structure to become a limited liability partnership.³

¹ See Notice of Amended Final Determination of Sales at Less Than Fair Value and Antidumping Duty Order: Certain Frozen Warmwater Shrimp from India, 70 FR 5147 (February 1, 2005) (Order).

² See LNSK Greenhouse Agro's Letter, “Request for Changed Circumstances Review: Certain Frozen Warm water Shrimp from India,” dated August 17, 2020.

³ Id. at 8.

Scope of the Order

The merchandise subject to the order is certain frozen warmwater shrimp.⁴ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁴ For a complete description of the scope of the Order, see Certain Frozen Warmwater Shrimp from India: Final Results of Antidumping Duty Administrative Review; 2017-2018, 84 FR 57847 (October 29, 2019), and accompanying Issues and Decision Memorandum at “Scope of the Order” section.

Initiation of CCR

Pursuant to section 751(b)(1)(A) of the Act and 19 CFR 351.216(d), Commerce conducts a CCR upon receipt of information concerning, or a request from, an interested party for a review of an AD order which shows changed circumstances sufficient to warrant a review of the order. The information submitted by LNSK Greenhouse Agro regarding its claim that it is the successor-in-interest to Greenhouse Agro demonstrates changed circumstances sufficient to warrant such a review.⁵ Therefore, in accordance with section 751(b)(1)(A) of the Act and 19 CFR 351.216(d) and (e), we are initiating a CCR based upon the information contained in LNSK Greenhouse Agro's submission.

⁵ See 19 CFR 351.216(d).

In making a successor-in-interest determination, Commerce examines several factors, including, but not limited to, changes in the following: (1) Management; (2) production facilities; (3) supplier relationships; and (4) customer base.⁶ While no single factor or combination of factors necessarily provides a dispositive indication of a successor-in-interest relationship, generally Commerce considers the new company to be the successor to the previous company if the new company's resulting operation is not materially dissimilar to that of its predecessor.⁷ Thus, if the record evidence demonstrates that, with respect to the production and sale of the subject merchandise, the new company operates as the same business entity as the predecessor company, Commerce may assign the new company the cash deposit rate of its predecessor.⁸

⁶ See, e.g., Certain Frozen Warmwater Shrimp from India: Initiation and Preliminary Results of Antidumping Duty Changed Circumstances Review, 81 FR 75376 (October 31, 2016) (Shrimp from India Preliminary Results), unchanged in Certain Frozen Warmwater Shrimp from India: Notice of Final Results of Antidumping Duty Changed Circumstances Review, 81 FR 90774 (December 15, 2016) (Shrimp from India Final Results).

⁷ See, e.g., Shrimp from India Preliminary Results, 81 FR at 75377, unchanged in Shrimp from India Final Results, 81 FR at 90774.

⁸ Id.; see also Notice of Final Results of Changed Circumstances Antidumping Duty Administrative Review: Polychloroprene Rubber from Japan, 67 FR 58, 59 (January 2, 2002); Ball Bearings and Parts Thereof from France: Final Results of Changed-Circumstances Review, 75 FR 34688, 34689 (June 18, 2010); and Circular Welded Non-Alloy Steel Pipe from the Republic of Korea; Preliminary Results of Antidumping Duty Changed Circumstances Review, 63 FR 14679 (March 26, 1998), unchanged in Circular Welded Non-Alloy Steel Pipe from Korea; Final Results of Antidumping Duty Changed Circumstances Review, 63 FR 20572 (April 27, 1998), in which Commerce found that a company which only changed its name and did not change its operations is a successor-in-interest to the company before it changed its name.

In its CCR request, LNSK Greenhouse Agro has provided sufficient evidence to warrant a review to determine if LNSK Greenhouse Agro is the successor-in-interest to Greenhouse Agro for purposes of the AD order on shrimp from India. Commerce intends to publish in the Federal Register a notice of preliminary results of the CCR, in accordance with 19 CFR 351.221(b)(4) and 351.221(c)(3)(i), which will set forth Commerce's preliminary factual and legal conclusions. Pursuant to 19 CFR 351.221(b)(4)(ii), interested parties will have an opportunity to comment on the preliminary results. Commerce will issue its final results of the review in accordance with the time limits set forth in 19 CFR 351.216(e).

Notification to Interested Parties

We are issuing this notice in accordance with sections 751(b)(1) and 777(i) of the Act and 19 CFR 351.216 and 351.221(b)(1).

Dated: October 1, 2020.
Jeffrey I. Kessler,
Assistant Secretary for Enforcement and Compliance.

[FR Doc. 2020-22206 Filed 10-6-20; 8:45 am]

BILLING CODE 3510-DS-P